SECURITIES AND EXCHANGE COMMISSION

17 CFR Part 242

[Release No. 34-90610A, File No. S7-03-20]

RIN 3235-AM61

Market Data Infrastructure

AGENCY: Securities and Exchange Commission.

ACTION: Final rule; correction.

SUMMARY: This document makes technical corrections to amendments to modernize the national market system for the collection, consolidation, and dissemination of information with respect to quotations for and transactions in national market system stocks adopted in Release No. 34-90610 (December 9, 2020) (“Adopting Release”), which was published in the Federal Register on April 9, 2021.

DATES: Effective June 8, 2021.

FOR FURTHER INFORMATION CONTACT: Kelly Riley, Senior Special Counsel, at (202) 551-6772; Ted Uliassi, Senior Special Counsel, at (202) 551-6095, Division of Trading and Markets, Securities and Exchange Commission, 100 F Street NE, Washington, DC 20549.

SUPPLEMENTARY INFORMATION: We are making technical amendments to correct § 242.600(b)(5). Specifically, this document amends Instruction 8 published in the Adopting Release by adding new Instruction 8.w. to revise a cross-reference to current § 242.600(b)(4) in current § 242.600(b)(5).

In document FR doc. 2020-28370, which was published in the Federal Register on Friday, April 9, 2021, at 86 FR 18596, the following correction is made:

§ 242.600 [Corrected]

On page 18810, in the first column, Instruction 8.w. is added to read as follows: “w. Amending newly redesignated paragraph (b)(7)(i) by removing the text “paragraph (b)(4) of this section” and adding in its place “paragraph (b)(6) of this section”.”

Dated: May 24, 2021.
Vanessa A. Countryman,
Secretary.

[FR Doc. 2021-11282 Filed 5-28-21; 8:45 am]

BILLING CODE 8011-01-P